DEPARTMENT OF THE INTERIOR

Bureau of Land Management

[ID-090-5700-EU; IDI-34203; DBG-03-003]

Notice of Realty Action, Sale of Public Land in Owyhee County, Idaho; Termination of Desert Land Entry and Carey Act Classifications and Opening Order

AGENCY: Bureau of Land Management, Interior.

ACTION: Notice and sale of public land in Owyhee County.

SUMMARY: This notice terminates a suitable Desert Land Entry and Carey Act classification on 80.00 acres so that a portion of the land can be patented under the Federal Land Policy and Management Act (Act of October 21, 1976, as amended). The following-described public land has been examined and found suitable for disposal by direct sale under Section 203 of the Federal Land Policy and Management Act of 1976 (90 Stat. 2750, 43 U.S.C. 1713) at not less than the appraised fair market value of $2,200. The land will not be offered for sale until at least 60 days after the date of publication of this notice in the Federal Register.

Boise Meridian, Owyhee County, Idaho

T. 7 S., R. 6 E., section 7: Lot 6

Containing ± 0.96 acres.

The patent, when issued, will contain a reservation to the United States for ditches and canals.

DATES: On May 20, 2003 the Desert Land Entry and Carey Act classification on the 80 acres of public land described below will be terminated. Also, the 0.96-acre parcel described above for sale will be segregated from appropriation under the public land laws, including the mining laws, except the sale provisions of the Federal Land Policy and Management Act. The segregative effect will end upon issuance of patent or on February 16, 2004, whichever occurs first.

ADDRESSES: Owyhee Field Office 3948 Development Avenue, Boise, Idaho 83705-5389.

FOR FURTHER INFORMATION CONTACT: Candi Miracle, Realty Specialist, at the address shown above or (208) 384-3455.

SUPPLEMENTARY INFORMATION: On April 10, 1986, the following public land was classified as suitable for entry under the authority of the Desert Land Act of March 3, 1877, as amended and supplemented (43 U.S.C. 321 et seq.) and the Carey Act of August 18, 1894 (28 Stat.42), as amended (43 U.S.C. 641 et seq.)

Boise Meridian, Owyhee County, Idaho

T. 7 S., R. 6 E., section 7: W½SE¼.

Containing ± 80.00 acres.

The classifications are hereby terminated and the segregation for Desert Land Entry and Carey Act are hereby terminated.

This 0.96 acre parcel of land is being offered by direct sale to Susan H. Davis of Boise, Idaho, based on historic use and value of added improvements. It has been determined that the subject parcel contains no known mineral values; therefore, mineral interests will be conveyed simultaneously.

Interested parties may submit comments to the Owyhee Field Office Manager at the above address until July 7, 2003. The Owyhee Field Manager, who may vacate or modify this realty action to accommodate any protests, will review any adverse comments received. If a protest is not accommodated, the comments are subject to review of the District Manager who may sustain, vacate, or modify this realty action. In the absence of any adverse comments, this realty action will become the final determination of the Department of the Interior.

Dated: April 1, 2003.
Jenna Whitlock,
Owyhee Field Manager.

[FR Doc. 03-12524 Filed 5-19-03; 8:45 am]

BILLING CODE 4310-GG-P